DEPARTMENT OF HOMELAND SECURITY

Coast Guard

33 CFR Part 117

[Docket No. USCG-2009-1059]

Drawbridge Operation Regulation; Sacramento River, Knights Landing, CA

AGENCY: Coast Guard, DHS.

ACTION: Notice of temporary deviation from regulations.

SUMMARY: The Commander, Eleventh Coast Guard District, has issued a temporary deviation from the regulation governing the operation of the Knights Landing Drawbridge across the Sacramento River, mile 90.1, at Knights Landing, CA. The deviation is necessary to allow the bridge owner, California Department of Transportation, to paint portions of the drawbridge. This deviation allows the bridge owner to operate the double leaf bascule bridge in single leaf mode during the deviation period.

DATES: This deviation is effective from 7 a.m. on December 30, 2009 to 7 a.m. on February 6, 2010.

ADDRESSES: Documents indicated in this preamble as being available in the docket are part of docket USCG-2009-1059 and are available online by going to http://www.regulations.gov, selecting the Advanced Docket Search option on the right side of the screen, inserting USCG-2009-1059 in the Docket ID box, pressing Enter, and then clicking on the item in the Docket ID column. This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail David H. Sulouff, Chief, Bridge Section, Eleventh Coast Guard District, telephone (510) 437-3516, e-mail David.H.Sulouff@uscg.mil. If you have questions on viewing the docket, call Renee V. Wright, Program Manager, Docket Operations, telephone 202-366-9826.

SUPPLEMENTARY INFORMATION: California Department of Transportation requested a temporary change to the operation of the Knights Landing Drawbridge, mile 90.1, Sacramento River, at Knights Landing, CA. The draw opens on signal if at least 12 hours notice is given as required by 33 CFR 117.189(b). This deviation allows the bridge owner to operate the double leaf bascule bridge in single leaf mode while securing one leaf of the drawspan in the closed-to-navigation position from 7 a.m. on December 11, 2009 to 7 a.m. on February 6, 2010.

The Knights Landing Drawbridge provides 3 feet vertical clearance above the 100 year floodplain when closed and unlimited vertical clearance in the open-to-navigation position. The drawbridge provides 199 feet horizontal clearance between bridge piers. The horizontal clearance provided by the drawbridge during single leaf operation is reduced by approximately 100 feet between the tip of the closed bascule and the opposite pier face. The vertical clearance will be unaffected.

No alternative routes are available for navigation. This temporary deviation has been coordinated with all known waterway users. No objections were received concerning the temporary deviation.

Vessels that can safely transit the bridge, while in the closed-to-navigation position, may continue to do so at any time.

In accordance with 33 CFR 117.35(e), the drawbridge must return to its regular operating schedule immediately at the end of the designated time period. This deviation from the operating regulations is authorized under 33 CFR 117.35.

Dated: December 14, 2009.
J.R. Castillo,
Rear Admiral, U.S. Coast Guard, Commander, Eleventh Coast Guard District.

[FR Doc. E9-30918 Filed 12-29-09; 8:45 am]

BILLING CODE 9110-04-P